DEPARTMENT OF TRANSPORTATION

Office of the Secretary

Notice of Applications for Certificates of Public Convenience and Necessity and Foreign Air Carrier Permits Filed Under Subpart B (formerly Subpart Q) During the Week Ending December 6, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0373.

Date Filed: December 2, 2008.

Due Date for Answers, Conforming Applications, or Motion to Modify Scope: December 23, 2008.

Description: Application of Thomson Airways Limited (“Thomson Airways”) requesting an exemption and an amended foreign air carrier permit authorizing (i) foreign scheduled and charter foreign air transportation of persons, property and mail from any point(s) behind any European Community Member State via any point(s) in the European Community Member States and intermediate points to any point(s) in the United States and beyond; (ii) foreign scheduled and charter foreign air transportation of persons, property and mail between any point(s) in the United States and any point(s) in the European Common Aviation Area; (iii) foreign scheduled and charter cargo air transportation between any point or points in the United States and any other point or points; (iv) other charters pursuant to prior approval, (v) and additional transportation authorized in the future under the U.S.-E.U. Agreement.

Docket Number: DOT-OST-2008-0377.

Date Filed: December 5, 2008.

Due Date for Answers, Conforming Applications, or Motion to Modify Scope: December 26, 2008.

Description: Application of Cargo Three, Inc. d/b/a PanAir Cargo (“PanAir Cargo”) requesting an exemption and a foreign air carrier permit authorizing PanAir Cargo to provide non-scheduled foreign air transportation of property and mail between any point or points in the Republic of Panama and any point or points in the United States; and between any point or points in the United States and any point or points in a third country or countries, whether or not it constitutes part of a continuous operation that includes service to Panama, consistent with the United States-Republic of Panama Air Transport Agreement dated May 8, 1997.

Barbara J. Hairston,
Supervisory Dockets Officer, Alternate Federal Register Liaison.

[FR Doc. E9-195 Filed 1-8-09; 8:45 am]

BILLING CODE 4910-9X-P